DEPARTMENT OF COMMERCE

Foreign-Trade Zones Board

[Docket 27-2003]

Foreign-Trade Zone 50—Long Beach, California, Area Application for Expansion

An application has been submitted to the Foreign-Trade Zones (FTZ) Board (the Board) by the City of Long Beach, grantee of Foreign-Trade Zone 50, requesting authority to expand FTZ 50 in the Long Beach, California, area, adjacent to the Los Angeles-Long Beach Customs port of entry. The application was submitted pursuant to the provisions of the Foreign-Trade Zones Act, as amended (19 U.S.C. 81a-81u), and the regulations of the Board (15 CFR part 400). It was formally filed on June 9, 2003.

FTZ 50 was approved on September 14, 1979 (Board Order 147, 44 FR 55919, 9/28/79) and expanded on April 2, 1985 (Board Order 298, 50 FR 15205, 4/17/85), on March 25, 1987 (Board Order 341, 52 FR 10393, 4/1/87), on December 19, 1990 (Board Order 494, 55 FR 53581, 12/31/90), on July 17, 1996 (Board Order 833, 61 FR 42832, 8/19/96), and on January 16, 2001 (Board Order 1141, 66 FR 8378, 1/31/01). The general-purpose zone currently consists of seven sites (2,204 acres) in the Long Beach area: Site 1 (12 acres)—Parcel 1-A (8 acres) located at 909 East Colon Street, Wilmington, and Parcel 1-B (4 acres) located at 22941 South Wilmington Avenue, Carson; Site 2 (1,844 acres)—California Commerce Center, Ontario; Site 3 (109 acres)—92 acres within the Inter-City Commuter Station Redevelopment area in Santa Ana and 17 acres at two warehouse facilities located at 3000/3100 Segerstrom Avenue and 2900/2930 South Fairview Street in Santa Ana; Site 4 (175 acres)—within the 2,300-acre San Bernardino International Airport and Trade Center complex in San Bernardino; Site 5 (11 acres)—Parcel 1 (6 acres) located at 1101 W. McKinley Avenue within the Fairplex Center in Pomona and Parcel 2 (5 acres) located at 10501-10509 East Valley Boulevard at Pacific Place in El Monte; Site 6 (50 acres)—former General Dynamics/Hughes site, north of Mission Boulevard between Humane Way and Dudley Street, Pomona; and, Site 7 (3 acres—2 sites)—a 1-acre site extending along San Marino Avenue and bounded on the north and south by Broadway and Clary Avenues and a 2-acre site at Santa Anita and Junipero Serra Streets in San Gabriel.

The applicant is now requesting authority to expand existing Site 2 by adding an additional 143 acres within the California Commerce Center in Ontario. This increases the total acreage at this site to 1,987 acres. The site will provide public warehousing and distribution services to area businesses. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street, NW., Washington, DC 20005; or

2. Submissions via the U.S. Postal Service: Foreign-Trade Zones Board, U.S. Department of Commerce, FCB—Suite 4100W, 1401 Constitution Avenue, NW., Washington, DC 20230.

The closing period for their receipt is August 18, 2003. Rebuttal comments in response to material submitted during the foregoing period may be submitted during the subsequent 15-day period (to September 1, 2003).

A copy of the application and accompanying exhibits will be available for public inspection at the Office of the Foreign-Trade Zones Board's Executive Secretary at the first address listed above, and at the U.S. Department of Commerce, Export Assistance Center, 2940 Inland Empire Boulevard, Suite 121, Ontario, CA 91764.

Dated: June 10, 2003.
Dennis Puccinelli,
Executive Secretary.

[FR Doc. 03-15290 Filed 6-16-03; 8:45 am]

BILLING CODE 3510-DS-P